DEPARTMENT OF JUSTICE

Drug Enforcement Administration

[AAG/A Order No. 195-2000]

Privacy Act of 1974; System of Records

AGENCY: Drug Enforcement Administration, Department of Justice.

ACTION: Notice of Minor Modifications to Systems of Records.

SUMMARY: Pursuant to the provisions of the Privacy Act of 1974, as amended, (5 U.S.C. 552a), the Drug Enforcement Administration (DEA), Department of Justice, is modifying two (2) existing Privacy Act Systems of Records. The “Automated Records and consolidated Orders System/Diversion Analysis and Detection System (ARCOS/DADS), JUSTICE/DEA-003,” was last published in the Federal Register on December 11, 1987 (52 FR 47206). The “DEA Aviation Unit Reporting System, JUSTICE/DEA-021,” was last published in the Federal Register on December 11, 1987 (52 FR 47220). The System Notices are published in their entirety below.

DATES: These actions will be effective April 28, 2000.

FOR FURTHER INFORMATION CONTACT: For information regarding these changes, and for general information regarding DEA's Privacy Act program, contact Mr. William C. Little, Jr., DEA Privacy Act Officer, at (202) 307-7622.

SUPPLEMENTARY INFORMATION: Since the last publication of the “Automated Records and Consolidated Orders System/Diversion Analysis and Detection System (ARCOS/DADS), JUSTICE/DEA-003,” the “System Location,” the “System Manager(s) and Address,” and the address for the “Notification Procedure,” and “Contesting Record Procedure” have changed. The System Notice is modified to reflect the current DEA office location and mailing address. Editorial changes are also made to: (1) Include the previously omitted system “Purpose,” “Record Source Category” and “Contesting Record Procedure;” (2) clarify “Retrievability;” (3) state the current “Safeguards” used to protect information; and, (4) eliminate repetitive language from the “Routine uses * * *” in the references to releases to the news media, Members of Congress, the National Archives and Records Administration and the General Services Administration.

Since the last publication of the “DEA Aviation Unit Reporting System, JUSTICE/DEA-021,” the address for the “Notification Procedure,” “Record Access Procedure” and “Contesting Record Procedure” have changed. The System Notice is modified to reflect the current DEA office mailing address. Editorial changes are also made to eliminate repetitive language from the “Routine uses * * * ” in the references to release to the news media, Members of Congress, the National Archives and Records Administration and the General Services Administration.

Dated: March 31, 2000.
Stephen R. Colgate,
Assistant Attorney General for Administration.

JUSTICE/DEA-003

System name:

Automated Records and Consolidated Orders System/Diversion Analysis and Detection System (ARCOS/DADS).

System location:

Drug Enforcement Administration, 700 Army Navy Drive, Arlington, VA 22202. Also field offices. See Appendix 1 for list of addresses.

Categories of individuals covered by the system:

Persons registered with DEA under the Comprehensive Drug Abuse Prevention and Control Act of 1970 (Pub. L. 91-513).

Categories of records in the system:

The information contained in this system consists of individual business transactions between levels of handlers of controlled substances to provide an audit trail of all manufactured and/or imported controlled substances to the dispensing level.

Authority for maintenance of the system:

This system of records is maintained pursuant to the reporting requirements of the Comprehensive Drug Abuse Prevention and Control Act of 1970 (21 U.S.C. 826(d)) and to enable the United States to fulfill its treaty obligations under the Single Convention on Narcotic drugs and the Convention on Psychotropic Storage.

All automated data files associated with ARCOS-DADS are maintained in the Department of Justice Data Center and the Drug Enforcement Administration Data Center.

Retrievability:

Records on individuals are retrieved by name and DEA registration number.

Safeguards:

The portion of the records maintained in DEA headquarters is protected by twenty-four hour guard service and electronic surveillance. Access to all DEA facilities is restricted to DEA employees and those persons transacting business within the building who are escorted by DEA employees. Access to the system is restricted to DEA employees who have appropriate security clearances on a need to know basis. Access to automated records requires user identification numbers which are issued to authorized DEA employees.

Retention and disposal:

Input data received from registrants is maintained for 60 days for backup purposes and then destroyed by shredding or electronic erasure. ARCOS master inventory records are retained for eight consecutive calendar quarters. As the end of a new quarter is reached, the oldest quarter of data is purged from the record. ARCOS transaction history will be retained for a maximum of five years and then destroyed.

System manager(s) and address:

Deputy Assistant Administrator, Office of Diversion Control, Drug Enforcement Administration, Washington, DC 20537.

Notification procedure:

Inquiries should be addressed to Freedom of Information Section, Drug Enforcement Administration, Washington, D.C. 20537. Inquiries should include inquirer's name, date of birth, and social security number.

Record access procedures:

Same as the above.

Contesting record procedures:

Same as the above.

Record source categories:

Information is obtained from registrants under the Controlled Substances Act (Pub. L. 91-513).

Systems exempted from certain provisions of the act:

The Attorney General has exempted this system from subsections (c)(3), (d), (e)(4)(G) and (H), (f) of the Privacy Act pursuant to 5 U.S.C. 552a(k). Rules have been promulgated in accordance with the requirements of 5 U.S.C. 552a(k). Rules have been promulgated in accordance with the requirements of 5 U.S.C. (b), (c) and (e) and have been published in the Federal Register.

JUSTICE/DEA-021

System name:

DEA Aviation Unit Reporting System.

System location:

Drug Enforcement Administration (DEA), Investigative Support Section, Aviation Unit, DEA/Justice, PO Box 534, Addison, Texas 75001.

Categories of individuals covered by the system:

DEA pilots.

Categories of records in the system:

The system contains: (1) Records relating to the operation and maintenance of DEA aircraft. (2) Records relating to pilot qualifications (CSC Form 671).

Purpose(s):

This system is maintained to monitor the utilization and maintenance of DEA aircraft and the qualifications of DEA pilots in furtherance of DEA enforcement operations conducted pursuant to the Comprehensive Drug Abuse Prevention and Control Act of 1970 (Pub. L. 91-513).

Routine uses of records maintained in the system, including categories of users and the purposes of such uses:

(a) Federal Aviation Administration for purposes of aircraft documentation and pilot certification.

(2) Department of Defense for communication purposes.

(3) United States Coast Guard for communication purposes.

(4) Communications relay services under contract with DEA for communications purposes.

(5) Release of information to the news media: Information permitted tone released to the news media and the public pursuant to 28 CFR 50.2 may be made available from systems of records maintained by the Department of Justice unless it is determined that release of the specific information in the context of a particular case would constitute an unwarranted invasion of personal privacy.

(6) Release of information to Members of Congress. Information contained in the systems of records maintained by the Department of Justice, not otherwise requested to be released pursuant to 5 U.S.C. 552, may be made available to a Member of Congress or staff acting upon the Member's behalf when the Member or staff requests the information on behalf of and at the request of the individual who is the subject of the record.

(7) Release of information to the National Archives and Records Administration (NARA) and to the General Services Administration (GSA): A record from a system of records may be disclosed as a routine use to the NARA and GSA in records management inspections conducted under the authority of 44 U.S.C. 2904 and 2906.

Policies and practices for storing, retrieving, accessing, retaining, and disposing of records in the system

Storage:

The automated portion of the records is maintained on an ADP disk storage device. Documentary records are maintained in manual file folders.

Retrievability:

Information relating to individuals in the system is retrieved by pilot name or identifying number assigned by DEA.

Safeguards:

Access to the system is restricted to DEA personnel on a need-to-know basis. The records are maintained in a secure room at the Addison Aviation Facility in accordance with DEA security procedures and are protected by an electronic alarm system.

Retention and Disposal:

The automated records are maintained for five years and then purged from the data base. Manual records are maintained indefinitely.

System Manager(s) and Address:

Chief, Investigative Support Section, Drug Enforcement Administration, Washington, D.C. 20537.

Notification Procedure:

Inquiries should be addressed to the Freedom of Information Section, Drug Enforcement Administration, Washington, D.C. 20537.

Record Access Procedures:

Same as above.

Contesting Record Procedures:

Same as above.

Records Source Categories:

Information pertaining to individuals in the system is obtained from reports submitted by DEA pilots.

Systems exempted from certain provisions of the act:

None.

[FR Doc. 00-10687 Filed 4-27-00; 8:45 am]

BILLING CODE 4410-CJ-M